DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by October 23, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Turnip the Beet! High Quality Summer Meals Program.

OMB Control Number: 0584-0658.

Summary of Collection: The Summer Food Service Program (SFSP) and National School Lunch Program (NSLP) Seamless Summer Option (SSO) were established to ensure that children and teens continue to receive nutritious meals when school is not in session. Turnip the Beet is a voluntary award initiative to recognize participating sponsoring organizations (program sponsors) that work hard to offer high quality, nutritious meals during the summer months.

Need and Use of the Information: The purpose of this voluntary recognition initiative is to encourage Summer Meal Programs' sponsors to offer higher quality, nutritious meals that make a positive impact on children's healthy development. This information collection allows the Food and Nutrition Service (FNS) to more accurately assess the quality of meal service in order to determine whether the individual sponsor qualifies for recognition, and at what level.

Description of Respondents: State, Local and Tribal Governments, Businesses.

Number of Respondents: 186.

Frequency of Responses: Reporting: Once.

Total Burden Hours: 225.

Ruth Brown,
Departmental Information Collection Clearance Officer.

[FR Doc. 2023-20549 Filed 9-21-23; 8:45 am]

BILLING CODE 3410-30-P